DEPARTMENT OF EDUCATION

Foreign Schools Eligibility Criteria Apply To Participate in Title IV HEA Programs; Extension of Public Comment Period; Correction

AGENCY: Department of Education.

ACTION: Correction Notice.

SUMMARY: On October 3, 2013 the U.S. Department of Education published a 30-day comment period notice in the Federal Register (Page 61348, Column 1) seeking public comment for an information collection entitled, “Foreign Schools Eligibility Criteria Apply To Participate in Title IV HEA Programs”. ED is extending the comment period to November 18, 2013 due to the public's inability to access the collection at the beginning of the comment period.

The Acting Director, Information Collection Clearance Division, Privacy, Information and Records Management Services, Office of Management, hereby issues a correction notice as required by the Paperwork Reduction Act of 1995.

Dated: October 22, 2013.
Stephanie Valentine,
Acting Director, Information Collection Clearance Division, Privacy, Information and Records Management Services, Office of Management.

[FR Doc. 2013-25153 Filed 10-24-13; 8:45 am]

BILLING CODE 4000-01-P